DEPARTMENT OF COMMERCE

National Oceanic and Atmospheric Administration

RIN 0648-XC600

Magnuson-Stevens Act Provisions; General Provisions for Domestic Fisheries; Application for Exempted Fishing Permits

AGENCY: National Marine Fisheries Service (NMFS), National Oceanic and Atmospheric Administration (NOAA), Commerce.

ACTION: Notice; request for comments.

SUMMARY: The Assistant Regional Administrator for Sustainable Fisheries, Northeast Region, NMFS (Assistant Regional Administrator), has made a preliminary determination that an exempted fishing permit application contains all of the required information and warrants further consideration. This exempted fishing permit would exempt commercial fishing vessels from the prohibition on landing unshucked surfclams into any container other than a standard surfclam/ocean quahog cage, and would allow project participants to test alternatives to the industry standard cage used in the Atlantic surfclam fishery. The research would be coordinated by the Cape Cod Commercial Hook Fishermen's Association.

Regulations under the Magnuson-Stevens Fishery Conservation and Management Act require publication of this notification to provide interested parties the opportunity to comment on applications for proposed exempted fishing permit.

DATES: Comments must be received on or before June 14, 2013.

ADDRESSES: You may submit written comments by any of the following methods:

• Email: nero.efp@noaa.gov. Include in the subject line “Comments on CCCHFA Atlantic surfclam EFP.”

• Mail: John K. Bullard, Regional Administrator, NMFS, NE Regional Office, 55 Great Republic Drive, Gloucester, MA 01930. Mark the outside of the envelope “Comments on CCCHFA Atlantic surfclam EFP.”

• Fax: (978) 281-9135.

FOR FURTHER INFORMATION CONTACT: Jason Berthiaume, Fishery Management Specialist, 978-281-9177, Jason.Berthiaume@noaa.gov.

SUPPLEMENTARY INFORMATION: The Cape Cod Commercial Hook Fishermen's Association (CCCHFA) submitted a complete application for an exempted fishing permit on May 14, 2013, to conduct commercial fishing activities that the regulations would otherwise restrict. The Exempted Fishing Permit (EFP) would authorize up to three vessels to research the feasibility of a day-boat Atlantic surfclam fishery for smaller vessels based out of Cape Cod by testing alternatives to the large industry-standard cages and 32-bu (1,703.68 L) cage tags. The traditional cages do not fit on smaller day-boats and, as a result, vessels not capable of carrying a cage onboard must offload directly into cages. The applicant stated that offloading into cages can be burdensome and dangerous and the extra handling and the compression of clams in the bottom of the cage can lead to damaged product. The CCCHFA proposes to explore the use of smaller containers that would result in less damaged product, thus creating a market for a lower volume, high quality product.

In addition, the applicant seeks to devise a means for tagging and quantifying cage equivalents. The Atlantic surfclam fishery manages quota allocations by using a tagging system, with each tag representing 32 bu (1,703.68 L) of allocation, or one cage. In addition to managing allocations, the tagging requirement is also important to maintain product chain of custody to allow harvested product to be tracked and disposed of, in the event the shellfish are harvested from contaminated waters and are determined to not be fit for human consumption. For these reasons, every cage containing surfclams must remain tagged from when the clams are first offloaded to the point of final disposition. Because this exempted fishing permit would exempt the cage requirements, by default the cage-tagging requirements would not be applicable. However, because tags are essential to carrying out the surfclam fishery, the applicants would work with NMFS and the National Band and Tag Company to convert standard cage tags into single-bushel tags to ensure all product harvested would be tagged. To allow for the flexibility to test a variety of experimental cage alternatives, 1-bu (53.24-L) tags would be developed and utilized on all cage alternatives.

Surfclams would be landed in bushel increments using standardized fishery bushel methodology. Participants propose to test the viability of three different cage alternatives:

1. Standardized shellfish bag (1 bu (53.24 L));

2. Standardized stackable fish tote (1 bu (53.24 L)); and

3. Standardized fish vat (used for skates and dogfish) (16 bu (851.84 L)).

Standardized shellfish bags and stackable fish totes would each hold 1 bu (53.24 L) and would be tagged with a 1-bu (53.24-L) tag. The standardized fish vat measures nearly 16 bu (851.84 L), and would be tagged with no fewer than sixteen, 1-bu (53.24-L) tags. The shellfish bags and fish totes would be further constrained to weigh no more than 89 lb (40.4 kg), the standard weight equivalent of a single bushel of clams.

Quota and tags would be tracked using methods consistent with the standard Atlantic surfclam fishery reporting requirements. All Atlantic surfclams would be sold to federally permitted dealers. In addition, when offloading to the dealer, weight samples would be taken to verify weights as to further develop the experimental containers.

The target species would be Atlantic surfclam, with some possible landings of stinson's clams. All clams caught would be sold and would be applied against the CCCHFA quota allocation of 31,136 bu (1.6 million L). A 4-ft (122-cm) hydraulic clam dredge would be used on 30-40, 15-min tows, on up to 150 trips. The research would be conducted from June through October, in Federal waters surrounding Nantucket Island within 30 mi (48 km) of shore.

If approved, the applicant may request minor modifications and extensions to the EFP throughout the year. EFP modifications and extensions may be granted without further notice if they are deemed essential to facilitate completion of the proposed research and have minimal impacts that do not change the scope or impact of the initially approved EFP request. Any fishing activity conducted outside the scope of the exempted fishing activity would be prohibited.

Authority: 16 U.S.C. 1801 et seq.

Dated: May 24, 2013.
James P. Burgess,
Acting Deputy Director, Office of Sustainable Fisheries, National Marine Fisheries Service.

[FR Doc. 2013-12862 Filed 5-29-13; 8:45 am]

BILLING CODE 3510-22-P